DEPARTMENT OF THE INTERIOR

Bureau of Land Management

[AZ-070-07-1230-00: 8371]

Notice of Final Supplementary Rules for the BLM-Managed Shoreline of Lake Havasu, the Parker Strip Recreation Area, and the Craggy Wash Area, in Mohave and La Paz Counties, AZ and in San Bernardino County, CA

AGENCY: Lake Havasu Field Office, Bureau of Land Management (BLM), Interior.

SUMMARY: This notice contains Supplementary Rules for the BLM-managed shoreline of Lake Havasu, a manmade lake on the Colorado River located in Arizona and California, including the boat-access campsites; supplementary rules for the Parker Strip Recreation Area, located along the Colorado River downstream from Lake Havasu; and supplementary rules for the Craggy Wash area, located north of the Lake Havasu City Municipal Airport (AZ). These supplementary rules are part of the implementation of the ongoing management of the Lake Havasu Shoreline Program. The supplementary rules replace existing rules for the Parker Strip Recreation Area and for the Crossroads and Empire Landing Campgrounds. Heavy visitation during the fall, winter and spring makes new supplementary rules for Craggy Wash necessary. The supplementary rules will help reduce conflicts among a wide variety of multiple users.

EFFECTIVE DATE: October 15, 2003.

FOR FURTHER INFORMATION CONTACT: Mike Henderson, Assistant Field Manager, or Bryan Pittman, Field Staff Law Enforcement Ranger, Bureau of Land Management, Lake Havasu Field Office, 2610 Sweetwater Avenue, Lake Havasu City, Arizona 86406, telephone (928) 505-1200.

SUPPLEMENTARY INFORMATION:

I. Background

II. Discussion of Supplementary Rules

III. Procedural Matters

I. Background

The supplementary rules for the Lake Havasu Shoreline areas are part of the ongoing management of the Lake Havasu Shoreline Program. The program, initiated in 1997, manages the shoreline riparian area. It includes the pre-existing shoreline campsites as Federal fee recreation sites under the authorities described in 36 CFR part 71. The sites had been developed as designated fee sites by the Arizona State Parks Department while these lands were under a lease administered by the Bureau of Land Management. The lease was voluntarily terminated, leaving the sites to return to the jurisdiction of BLM.

The primary purpose of the Lake Havasu Shoreline Program is to provide areas for boating, camping and day use. The recreation sites, designated as camp or day use sites, are in most cases the traditional use areas of boat camping visitors. Arizona State Parks selected designated sites using criteria based on visitor use patterns, availability of shoreline access, and a need to establish sanitation facilities along heavily used shoreline areas. This program was established to accommodate the increasing demand for boat accessible site safety and property, to provide natural resource protection through improved management of the camping use and the riparian area. The designation of fee campsites assures that specific locations are available for such use year after year.

The Parker Strip Recreation Area is a heavily used area that contains campgrounds, day use areas, boat ramps, picnic areas, concession operated resorts, and a National Backcountry Byway. Authority for the designation of fee campsites is contained in Title 43, Code of Federal Regulations, part 8360, subpart 8365, sections 2 and 2-3. Authority for the payment of fees is in 36 CFR, subpart 71. Authority for including this program in the Fee Demonstration Pilot Program was contained in the Omnibus Budget Reconciliation Act of 1993 (Pub. L. 103-66) and the FY 1996 Appropriations Act (Pub. L. 104-134).

The Craggy Wash area is located north of the Lake Havasu City Municipal Airport and east of State Route 95. It is a heavily used dispersed camping area during the cooler part of the year. The area is also frequented by target shooters, off-road vehicle operators, sightseers, bicyclists and hikers. More than 300 people may be present at the same time on frequent occasions.

The Proposed Supplementary Rules for the BLM-Managed Shoreline of Lake Havasu, the Parker Strip Recreation Area, and the Craggy Wash Area, in Mohave and LaPaz Counties, AZ, and San Bernardino County, CA, were published in the Federal Register on June 16, 2003. Changes in the proposed rules to the final rules resulted from internal review of comments received from the Arizona Game and Fish Department. These changes related to the distance (one-quarter mile) from occupied recreation sites that firearms may be discharged (Rules 14 and 27); and that except in designated OHV Open areas, vehicles must be operated on existing roads, trails, and washes (Rule 31).

II. Discussion of Supplementary Rules

The final supplementary rules for Lake Havasu Shoreline supercede the Rules for Lake Havasu Shoreline, published on May 21, 1998 (63 FR 27995). The shoreline supplementary rules would apply to the BLM-managed lands located within 1,000 linear feet of the high water mark (450 foot elevation line) of Lake Havasu, located in Mohave and La Paz Counties, Arizona and in San Bernardino County, California. These rules also apply to the portions of Lake Havasu located within 500 linear feet of designated campsites, day use sites, boat ramps, fishing docks, boat docks and swimming beaches. Included in this are the following currently designated campsites listed generally from North to South:

Bluebird 1, 2

Wren Cove 1,2,3

Mallard Cove 1,2,3,4,5,6

Teal Point 1,2

Widgeon Key 1,2,4

Road Runner 2,3,4

Solitude Cove

Balance Rock Cove

Friendly Island 1,2,3,4

Goose Bay 1,2

Pilot Rock 1,2,3

Steamboat Cove 1,2,3,4

Buzzard Cove

Eagle Cove

Eagle Point

Ewe Camp

Rachel's Camp

Burned Camp

Linda's Camp

Sand Isle 1,2,3,4

Standard Wash 1,2,3,4,5,6

Echo Cove 1,2,3,4

Coyote Cove 1,2

BLM 1,2

Whyte's Retreat 1,2

Rocky Landing 1,2,3,4

Satellite Cove 1,2,3

Hum Hum Cove 1,2

Cove of the Little Foxes

Disneyland 1,2,3,4

Gnat Keys 1,2,3,4

Hi Isle 2,4,5,6,7,8,10,11,12,14,15

Big Horn 1,3,4

Bass Bay 1,2

Larned Landing 1,2,3,4,5

Bill Williams 1,2,3,4,5

The final supplementary rules for the Parker Strip Recreation Area supercede Rules for Parker Strip Recreation Area, published on October 12, 1995 (60 FR 53194), and rules for Empire Landing and Crossroads Campgrounds, published on May 18, 1998 (63 FR 27316). The Parker Strip rules apply to the Parker Strip Recreation Area, which is defined as follows:

Gila and Salt River Meridian, Arizona

T11N, R18W, Sec. 15, 16, 22, 28 and 34.

T10N, R18W, Sec. 5 (W½, NW¼, SW¼), Sec. 6, Sec. 7, Lots 1-4, (NE¼, N½, SE¼, SW¼, SE¼), Sec. 18 (Lot 1, NW1/4, NE¼).

T10N, R19W, Sec. 12, Sec. 13 (N½, N½, N½, SW1/4, NE1/4, NW1/4, SE¼, NE1/4, N½, SE¼, NW¼, SW¼, NW¼, W½, SW¼), Sec. 14, 22 and 23. Section 24 (W½, NW¼).

San Bernardino Meridian, California

T2N, R27E, all.

T2N, R26E, Sec. 1, 11-15, 21-27 and 34-36.

T1N, R26E, Sec. 2,3, 10 and 11.

The final supplementary rules for Craggy Wash dispersed camping area would be new, made necessary by heavy visitation during the fall, winter and spring. The Craggy Wash area is defined as public lands located with the following legal description.

T14N, R20W, sec. 4 (N½), sec. 3 (N½), sec. 2 (N½).

T15N, R20W, sec. 33, 34, 35, 36.

BLM has developed the shoreline, Parker Strip, and Craggy Wash supplementary rules to manage continued multiple use of the sites. These rules will be available in the Lake Havasu Field Office and BLM will post them at the sites affected. Most of the shoreline supplementary rules that follow were first published in 1998. We have expanded the area of applicability to include all of the BLM-managed shoreline of Lake Havasu in Arizona and California. The previous supplementary rules applicable to the lake shoreline were limited to the areas in the vicinity of the shoreline campsites. The term “recreation site” includes any developed campsite or day use site or similar recreational development. The supplementary rules that follow also apply to the surface of Lake Havasu located within 500 linear feet of designated campsites. Acts occurring in that portion of the lake have a direct impact on, and connection with, public safety and resource protection of the campsite areas.

III. Procedural Matters

The principal author of these supplementary rules is Bryan Pittman, Field Staff Law Enforcement Ranger, BLM Lake Havasu Field Office.

Regulatory Planning and Review (E.O. 12866)

These supplementary rules are not significant and are not subject to review by the Office of Management and Budget under Executive Order 12866.

(1) These supplementary rules will not have an effect of $100 million or more on the economy. They will not adversely affect in a material way the economy, productivity, competition, jobs, the environment, public health or safety, or state, local, or tribal governments or communities.

(2) These supplementary rules will not create a serious inconsistency or otherwise interfere with an action taken or planned by another agency.

(3) These supplementary rules do not alter the budgetary effects or entitlements, grants, user fees, or loan programs or the rights or obligations of their recipients.

(4) These supplementary rules do not raise novel legal or policy issues.

The supplementary rules will not affect legal commercial activity, but merely contain rules of conduct for public use of a limited selection of public lands.

Regulatory Flexibility Act

The Department of the Interior certifies that these supplementary rules will not have a significant economic effect on a substantial number of small entities under the Regulatory Flexibility Act (5 U.S.C. 601 et seq.). The supplementary rules will not affect legal commercial activity, but will govern conduct for public use of a limited selection of public lands.

Small Business Regulatory Enforcement Fairness Act (SBREFA)

These supplementary rules do not constitute a major rule under 5 U.S.C. 804(2), the Small Business Regulatory Enforcement Fairness Act. These supplementary rules:

Do not have an annual effect on the economy of $100 million or more. (See the discussion under Regulatory Planning and Review, above.)

Will not cause a major increase in costs or prices for consumers, individual industries, Federal, State, or local government agencies, or geographic regions. See the discussion above under Regulatory Flexibility Act.

Do not have significant adverse effects on competition, employment, investment, productivity, innovation, or the ability of U.S.-based enterprises to compete with foreign-based enterprises.

Unfunded Mandates Reform Act

These supplementary rules do not impose an unfunded mandate on state, local, or tribal governments or the private sector of more than $100 million per year. The supplementary rules do not have a significant or unique effect on state, local, or tribal governments or the private sector. The supplementary rules have no effect on governmental or tribal entities. A statement containing the information required by the Unfunded Mandates Reform Act (2 U.S.C. 1531 et seq.) is not required.

Takings (E.O. 12630)

In accordance with Executive Order 12630, the supplementary rules do not have significant takings implications. The enforcement provision in the supplementary rules does not include any language requiring or authorizing forfeiture of personal property or any property rights. E.O. 12630 addresses concerns based on the Fifth Amendment dealing with private property taken for public use without compensation. The land covered by the supplementary rules is public land managed by the Bureau of Land Management; therefore no private property is affected. A takings implications assessment is not required.

Federalism (E.O. 13132)

In accordance with Executive Order 13132, BLM finds that the supplementary rules do not have sufficient federalism implications to warrant the preparation of a federalism summary impact statement. The supplementary rules do not have substantial direct effects on the states, on the relationship between the national government and the states, or on the distribution of power and responsibilities among the various levels of government. The supplementary rules do not preempt state law.

Civil Justice Reform (E.O. 12988)

In accordance with Executive Order 12988, the Office of the Solicitor has determined that these supplementary rules do not unduly burden the judicial system and meet the requirements of sections 3(a) and 3(b)(2) of the Order.

Consultation and Coordination With Indian Tribal Governments (E.O. 13175)

In accordance with Executive Order 13175, we have found that this final rule would not include policies that have tribal implications. The supplementary rules would not affect lands held for the benefit of Indians, Aleuts, or Eskimos.

Paperwork Reduction Act

These supplementary rules do not contain information collection requirements that the Office of Management and Budget must approve under the Paperwork Reduction Act, 44 U.S.C. 3501 et seq.

National Environmental Policy Act

These supplementary rules do not constitute a major Federal action significantly affecting the quality of the human environment. A detailed statement under the National Environmental Policy Act of 1969 is not required.

Under the authority of 43 U.S.C. 1733a and 43 CFR 8360.0-7, BLM establishes the following supplementary rules.

Dated: August 4, 2003.
Elaine Y. Zielinski,
State Director, Bureau of Land Management, Arizona.

Supplementary Rules for Lake Havasu Shoreline Area

1. You must purchase a permit in order to use a designated recreation site, including occupying a site for any use exceeding 20 minutes.

2. You must not moor any watercraft or floating platform at a recreation site or offshore in the vicinity or cove of any such site for more than 20 minutes without purchasing a permit. The fee for a use permit will be in accordance with the fee schedule, requirements, and procedures that BLM established under the Recreation Fee Demonstration Pilot Program, and are payable in U.S. funds only.

3. You must present the appropriate use permit upon demand to any authorized BLM official inspecting the site. If you are away from the campsite, the permit must be visibly displayed in accordance with posted instructions, or in the manner directed by a BLM official.

4. You must not reassign or transfer your permit to another individual or group and/or campsite(s).

5. Any authorized BLM official may revoke your permit, without reimbursement, if you violate any BLM rule or regulation. If BLM revokes your permit, you must remove all personal property and leave the recreation site within one hour of notice.

6. A recreation site is considered occupied after you have paid the appropriate permit fee, you have taken possession of the site by placing personal property at the site, and the permit is displayed in accordance with written instructions or as directed by a BLM official. You must not occupy a site in violation of instructions from a BLM official, or when there is reason to believe that the unit is properly occupied by another person or persons.

7. Except for authorized Federal, state or local personnel, during the commission of their duties, a permitted site cannot be occupied by other visitors without the consent of the permittee.

8. You must not occupy a site designated as “day use” between sunset and sunrise.

9. A single vessel and its occupants may not occupy more than one site.

10. During the hours of 10 p.m. to 6 a.m., in accordance with applicable state time zone standards, you must maintain quiet within normal hearing range of the designated recreation sites.

11. You must not cut or collect any firewood, including dead and down wood and all other vegetative material.

12. You must not moor vessels to vegetation, signs, shade ramadas, tables, grills or fire rings, toilets, trash receptacles, or other objects or structures not designed for such use.

13. You must not beach or moor a vessel in excess of posted time limits.

14. You must not discharge or use firearms or projectile weapons inside or within a quarter-mile of any occupied recreation site.

15. You must not discharge or possess any fireworks.

16. You must keep the site free of litter and trash during the period of occupancy. You must remove all personal property, and the site must be clean, upon your departure.

17. You must keep pets on a leash no longer than six (6) feet.

18. You must not leave pets unattended, and you must remove pet waste from the site or dispose of it in available trash receptacles.

19. You must not violate any provisions of boating laws as described in Title 5, Chapter 3, of the Arizona Revised Statutes or in the California Harbors and Navigation Code (as applicable).

20. Possession of alcoholic beverages by a person under the age of 21 years is prohibited.

21. Consumption of alcoholic beverages by a person under the age of 21 years is prohibited in the portions of the affected area that are located within Arizona.

22. You must not possess glass beverage containers on land or in the water. You may possess glass beverage containers only within the confines of a vessel.

23. Reserving recreation sites in any manner, including leaving personal property unattended overnight, is prohibited.

24. Recreation sites used for camping activities must be occupied overnight by the permittee.

25. You must not leave personal property unattended for more than 24 hours. Personal property left unattended beyond such time limit is subject to disposition under the Federal Property and Administration Services Act of 1949, as amended (40 U.S.C. 484(m)).

Supplementary Rules for the Parker Strip Recreation Area

Rules number 1, 3, 4, 5, 6, 7, 8, 15, 16, 20, 21, 23, 24 and 25 of the Lake Havasu Shoreline Supplementary Rules also apply to the Parker Strip Recreation Area. In addition, the following rules apply to the Parker Strip Recreation Area.

26. You must not park or operate vehicles in violation of posted restrictions.

27. Except in designated OHV Open areas, you must operate vehicles only on existing roads, trails, and washes.

28. Vehicles operated between Parker Dam Road and the Colorado River in California must be legal for highway operation. You may operate non-highway legal golf carts in this area only within concession resorts and facilities, and within BLM-managed campgrounds.

29. Within one-half mile of Parker Dam Road, you may camp only in designated campsites.

30. Disorderly conduct is prohibited.

31. You must not discharge or use firearms in California within one mile of Parker Dam Road. In Arizona, you must not discharge or use firearms within one quarter-mile of any occupied recreation site or residential structure.

32. In BLM-managed campgrounds, no more than 8 persons may occupy a single campsite.

Supplementary Rules for Craggy Wash

From October 1 through April 30 of each year, the following supplementary rules are in effect:

1. You must maintain your campsite free of trash and litter.

2. You must not discharge a firearm for the purpose of target practice or plinking. You may engage in legitimate hunting activities.

3. You must not operate a motor vehicle at a speed greater than 15 mph.

4. You must maintain quiet within hearing range of any other person or camp unit between 10 p.m. and 6 a.m. You must not operate a generator during these hours.

5. You must not collect firewood, including any dead and down wood, or any other vegetative material.

6. You must restrain a pet with a leash not longer than six (6) feet.

7. You must not leave a pet unattended.

8. You must not possess or discharge fireworks.

9. You must not leave personal property unattended for more than 24 hours.

Penalties

The authority for these supplementary rules is provided in 43 CFR 8365.1-6. Persons who violate these rules are subject to arrest, and upon conviction may be fined up to $100,000 and/or imprisoned for not more than 12 months, as amended by 18 U.S.C. 3571 and 18 U.S.C. 3581.

[FR Doc. 03-23445 Filed 9-12-03; 8:45 am]

BILLING CODE 4310-32-P